DEPARTMENT OF TRANSPORTATION

Coast Guard

33 CFR Part 117

[CGD01-02-112]

RIN 2115-AE47

Drawbridge Operation Regulations; Long Island, New York Inland Waterway From East Rockaway Inlet to Shinnecock Canal, NY

AGENCY: Coast Guard, DOT.

ACTION: Temporary final rule.

SUMMARY: The Coast Guard is establishing a temporary final rule governing the operation of the Atlantic Beach Bridge, at mile 0.4, across Reynolds Channel at New York. This rule allows the bridge owner to open only one lift span for bridge openings, 7 a.m. to 5 p.m., from November 1, 2002 through November 30, 2002. Two span openings will be granted, provided a two-hour advance notice is given, from one hour before to one hour after predicted high tide. This single span operation is necessary to facilitate bridge painting operations at the bridge.

DATES: This rule is effective from November 1, 2002 through November 30, 2002.

ADDRESSES: Documents indicated in this preamble as being available in the docket are part of docket (CGD01-02-112) and are available for inspection or copying at the First Coast Guard District, Bridge Administration Office, 408 Atlantic Avenue, Boston, Massachusetts, 02110-3350, between 7 a.m. and 3 p.m., Monday through Friday, except Federal holidays.

FOR FURTHER INFORMATION CONTACT: Mr. Joe Schmied, Project Officer, First Coast Guard District, (212) 668-7165.

SUPPLEMENTARY INFORMATION:

Regulatory Information

We did not publish a notice of proposed rulemaking (NPRM) for this regulation. Under 5 U.S.C. 553(b)(B), the Coast Guard finds that good cause exists for not publishing an NPRM and under 5 U.S.C. 553(d)(3), the Coast Guard finds that good cause exists for making this rule effective less than 30 days after publication in the Federal Register.

The Coast Guard believes notice and comment are unnecessary because the bridge painting work that will be performed under this temporary final rule is a continuation, for one extra month, of work previously approved by a temporary final rule published on April 25, 2002 (67 FR 20442) entitled Drawbridge Operation Regulations, Massachusetts.

This second temporary final rule will continue the temporary operating schedule for an extra month in order to complete the work at the bridge. The mariners who normally use this waterway have agreed to the continuation of the single lift span operation from November 1, 2002 through November 30, 2002.

Any delay encountered in this regulation's effective date would be unnecessary and contrary to the public interest because the bridge painting work must continue until the end of November to finish this project.

Background and Purpose

The Atlantic Beach Bridge has a vertical clearance of 25 feet at mean high water, and 30 feet at mean low water in the closed position. The existing drawbridge operating regulations are listed at § 117.799.

The bridge owner, Nassau County Bridge Authority, requested a temporary regulation to facilitate painting operations at the bridge. The Coast Guard and the bridge owner held a meeting with the mariners who normally use this waterway to coordinate this bridge painting project and minimize the impacts on the marine transportation system. The single span operation was determined to be acceptable to the mariners because double span openings will be available from one hour before to one hour after the predicted high tide, provided a two-hour advance notice is given.

The bridge owner requested a second temporary final rule to complete the bridge painting that will not be finished by October 31, 2002, the end date of the first temporary final rule. The mariners agreed to the extension of the temporary operating schedule through the end of November to allow the bridge painting work to be completed.

Discussion of Rule

The drawbridge operation regulations at § 117.799, for the Atlantic Beach Bridge, at mile 0.4, across the Reynolds Channel, will be temporarily changed. From November 1, 2002 through November 30, 2002, the bridge will open on signal; however, only one lift span will be opened for the passage of vessel traffic between 7 a.m. to 5 p.m., daily. From 4 p.m. to 7 p.m. on weekdays, and from 11 a.m. to 9 p.m. on weekends and holidays, the bridge will open on signal only on the hour and half hour. From one hour before to one hour after predicted high tide, two lift spans will be opened for the passage of vessel traffic, provided at least a two hour advance notice is given by calling the number posted at the bridge.

Regulatory Evaluation

This rule is not a “significant regulatory action” under section 3(f) of Executive Order 12866, Regulatory Planning and Review, and does not require an assessment of potential costs and benefits under section 6(a)(3), of that Order. The Office of Management and Budget has not reviewed it under that Order. It is not “significant” under the regulatory policies and procedures of the Department of Transportation (DOT) (44 FR 11040; February 26, 1979).

This conclusion is based on the fact that the single span operation was found acceptable by the mariners who normally use this waterway.

Small Entities

Under the Regulatory Flexibility Act (5 U.S.C. 601-612), we considered whether this rule would have a significant economic impact on a substantial number of small entities. The term “small entities” comprises small businesses, not-for profit organizations that are independently owned and operated and are not dominant in their fields, and governmental jurisdictions with populations less than 50,000.

The Coast Guard certifies under 5 U.S.C. 605(b), that this rule will not have a significant economic impact on a substantial number of small entities.

This conclusion is based on the fact that the single span operation was found acceptable by the mariners who normally use this waterway.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (32)(e), of Commandant Instruction M16475.1d, this rule is categorically excluded from further environmental documentation because promulgation of changes to drawbridge regulations have been found to not have a significant effect on the environment. A “Categorical Exclusion Determination” is available in the docket for inspection or copying where indicated under ADDRESSES.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From November 1, 2002 through November 30, 2002, § 117.799 is temporarily amended by suspending paragraph (e) and adding a new paragraph (k) to read as follows:

§ 117.799 Long Island, New York Inland Waterway from East Rockaway Inlet to Shinnecock Canal.

* * * * *

(k) The Atlantic Beach Bridge, mile 0.4, across Reynolds Channel, from November 1, 2002 through November 30, 2002, shall open on signal, except as follows:

(1) Only one lift span need be opened for the passage of vessel traffic between 7 a.m. to 5 p.m., daily, except as provided in paragraph (k)(3) of this section.

(2) From 4 p.m. to 7 p.m. on weekdays, and from 11 a.m. to 9 p.m. on weekends and holidays, the draw shall open on signal only on the hour and half hour, except as provided in paragraph (k)(3) of this section.

(3) From one hour before to one hour after the predicted high tide, two lift spans may be opened for the passage of vessel traffic, provided at least a two-hour advance notice is given by calling the number posted at the bridge. For the purposes of this section, predicted high tide occurs 10 minutes earlier than that predicted for Sandy Hook, as given in the tide tables published by the National Oceanic and Atmospheric Administration.

Dated: September 30, 2002.
V.S. Crea,
Rear Admiral, U.S. Coast Guard, Commander, First Coast Guard District.

[FR Doc. 02-26009 Filed 10-11-02; 8:45 am]

BILLING CODE 4910-15-P